DEPARTMENT OF HEALTH AND HUMAN SERVICES

Substance Abuse and Mental Health Services Administration

Center for Substance Abuse Prevention; Notice of Meeting

Pursuant to Public Law 92-463, notice is hereby given that the Substance Abuse and Mental Health Services Administration's (SAMHSA) Center for Substance Abuse Prevention (CSAP) Drug Testing Advisory Board (DTAB) will meet in person and via web conference on September 19, 2017, from 9:30am to 5:00pm EDT and September 20, 2017, from 9:30am to 2:00pm EDT.

The Board will meet in open session on September 19, 2017, from 9:30am to 12:45pm to provide updates on the Mandatory Guidelines for Federal Workplace Drug Testing Programs, present a study on the degradation of deoxyribose nucleic acid (DNA) in urine and oral fluid specimens, results from the opioid implementation performance testing (PT) samples, lessons learned from the pilot PT program for oral fluid, and the detection of opioid glucuronides in drug user hair. Public comments are welcome. If you intend to provide public comments, please register and provide a summary of your comments to the contact listed below. The Division of Workplace Programs will review public comments to ensure that they address the topics scheduled to be discussed during the meeting and adhere to the meeting's established time limits for public comments.

The board will meet in closed session on September 19, 2017, from 2:00pm to 5:00pm EDT and on September 20, 2017, from 9:30am to 2:00pm EDT to hear about current confidential practices in the hair testing industry and to discuss proposed revisions of the Oral Fluid Mandatory Guidelines for Federal Workplace Drug Testing Programs. These portions of the meeting are closed to the public as determined by the Administrator, SAMHSA, in accordance with 5 U.S.C. 552b(c)(4) and (9)(B), and 5 U.S.C. App. 2, Section 10(d).

To obtain the web conference call-in numbers and access codes, registration can be completed online at http://snacregister.samhsa.gov/MeetingList.aspx.

Meeting information and a roster of DTAB members may be obtained by accessing the SAMHSA Advisory Committees Web site, http://www.samhsa.gov/about-us/advisory-councils/drug-testing-advisory-board-dtab, or by contacting Brian Makela.

Committee Name: Substance Abuse and Mental Health Services Administration's Center for Substance Abuse Prevention Drug Testing Advisory Board

Dates/Time/Type: September 19, 2017, from 9:30am to 12:45pm, EDT: Open, September 19, 2017, from 2:00pm to 5:00pm, EDT: Closed, September 20, 2017, from 9:30am to 2:00pm, EDT: Closed

Place: Parklawn Building, Rooom 5E29, 5600 Fishers Lane, Rockville, Maryland 20857

Contact: Brian Makela, Division of Workplace Programs, 5600 Fishers Lane, Room 16N02B, Rockville, Maryland 20857, Telephone: 240-276-2600, Fax: 240-276-2610, Email: brian.makela@samhsa.hhs.gov.

Brian Makela,
Chemist, Substance Abuse and Mental Health Services Administration.

[FR Doc. 2017-17963 Filed 8-23-17; 8:45 am]

BILLING CODE 4162-20-P